DEPARTMENT OF LABOR

Employment and Training Administration

[TA-W-39,380]

Spinnaker Coating Maine Incorporated, Westbrook, ME; Notice of Revised Determination on Remand

The United States Court of International Trade (USCIT) remanded to the Labor Department for further investigation of the negative determination in Former Employees of Spinnaker Coating, Maine Inc. v. U.S. Secretary of Labor (Court No. 02-00203).

The Department's initial denial of the petition for employees of Spinnaker Coating Maine, Inc., Incorporated, Westbrook, Maine was issued on August 23, 2001 and published in the Federal Register on September 11, 2001 (66 FR 47242). The denial was based on the fact that criterion (3) of the Group Eligibility Requirements of Section 222 of the Trade Act of 1974, as amended, was not met. Imports did not contribute importantly to worker separations at the subject firm.

On administrative reconsideration, the Department issued a “Notice of Negative Determination Regarding Application for Reconsideration,” on December 26, 2001 for the employees of Spinnaker Coating Maine, Inc., Incorporated, Westbrook, Maine. The notice was published in the Federal Register on January 31, 2002 (66 FR 4756 and 4757). The Department further concluded that imports did not contribute importantly to worker separations at the subject firm.

On remand, the Department examined the results of a survey response conducted during the initial investigation, with additional clarification from the customer during reconsideration. The survey showed that the customer stopped buying thermal transfer paper from the subject firm prior to the relevant period. During the same time period, the customer increased their imports purchases of thermal transfer paper from another domestic source, while decreasing their purchases of Electronic Data Processing (EDP) paper from the subject firm.

Since the two products EDP and thermal transfer paper appeared to be two different types of paper, the Department did not consider the increased imports as impacting the subject plant. On remand, the Department contacted a company official and followed up with an industry expert at the United States International Trade Commission. Both indicated that the two products were directly competitive with each other. Therefore on further review of that survey response, the customer increased their purchases of imported thermal transfer paper, a product “like or directly competitive” with EDP during the relevant period. The customer simultaneously reduced their purchases of EDP, while increasing their imports of thermal transfer paper during the relevant period.

Conclusion

After careful review of the additional facts obtained on remand, I conclude that there were increased imports of articles like or directly competitive with those produced by the subject firm that contributed importantly to the worker separations and sales or production declines at the subject facility. In accordance with the provisions of the Trade Act, I make the following certification:

All workers of Spinnaker Coating Maine Incorporated, Westbrook, Maine who became totally or partially separated from employment on or after June 4, 2000, through two years from the issuance of this revised determination, are eligible to apply for adjustment assistance under Section 223 of the Trade Act of 1974.

Signed at Washington, DC this 10th day of March 2003.
Edward A. Tomchick,
Director, Division of Trade Adjustment Assistance.

[FR Doc. 03-8845 Filed 4-9-03; 8:45 am]

BILLING CODE 4510-30-P